DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-041672

Applicant: Wade Stamp, Corps of Engineers, Lowell, Oregon.

The applicant requests a permit to take (harass by survey and kill larvae) the Fender's blue butterfly (Icaricia icarioides fenderi) in conjunction with surveys, monitoring, and habitat restoration activities, including manual removal of woody material and fall mowing, at Fern Ridge Reservoir, Lane County, Oregon, for the purpose of enhancing its survival.

Permit No. TE-042952

Applicant: Riverside Land Conservancy, Rialto, California.

The applicant requests a permit to take (harass by survey) the Delphi Sands flower-loving fly (Rhaphiomidas terminatus abdominalis) in conjunction with surveys and population monitoring associated with land acquisition in the City of Rialto, San Bernardino County, California, for the purpose of enhancing its survival.

Permit No. TE-779910

Applicant: William E. Haas, San Diego, California.

The applicant requests a permit amendment to expand take (harass by survey) of the southwestern willow flycatcher (Empidonax traillii extimus) to include New Mexico and Nevada for the purpose of enhancing its survival.

Permit No. TE-023250

Applicant: The Department of the Navy, San Diego, California.

The applicant requests a permit amendment to take (attach radio transmitters) the San Clemente loggerhead shrike (Lanius ludovicianus mearnsi) in conjunction with scientific research on San Clemente Island, California for the purpose of enhancing its survival.

Permit No. TE-789266

Applicant: Tricia Campbell, Temecula, California.

The applicant requests a permit amendment to take (harass by survey, capture and band) the southwestern willow flycatcher (Empidonax traillii extimus) and least Bell's vireo (Vireo bellii pusillus) in conjunction with surveys and research throughout the species' range in California for the purpose of enhancing their survival.

Permit No. TE-043631

Applicant: Curtis Cash, Reseda, California.

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-043630

Applicant: San Francisco Estuary Institute, Richmond, California.

The applicant requests a permit to take (harass by survey) the California clapper rail (Rallus longirostris obsoletus) in conjunction with ecological research in Alameda, San Mateo, and Santa Clara Counties, California for the purpose of enhancing its survival.

Permit No. TE-043102

Applicant: Janelle N. Nolan-Summers, Antelope, California.

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California and Oregon for the purpose of enhancing their survival.

Permit No. TE-007581

Applicant: Tito Alejandro Marchant, Newport Beach, California.

The applicant requests a permit amendment to take (survey by pursuit) the El Segundo blue butterfly (Euphilotes battoides allyni) in conjunction with population monitoring in Los Angeles County, California; and take (harass by survey, collect and sacrifice) the San Diego fairy shrimp (Brachinecta sandiegonensis) and the Riverside fairy shrimp (Streptocephalus woottoni) in conjunction with surveys throughout each species range in California for the purpose of enhancing their survival.

Permit No. TE-007520

Applicant: Julie Simonsen-Marchant, Newport Beach, California.

The applicant requests a permit amendment to take (survey by pursuit) the El Segundo blue butterfly (Euphilotes battoides allyni) in conjunction with population monitoring in Los Angeles County, California, for the purpose of enhancing its survival.

Permit No. Permit No. TE-702631

Applicant: Assistant Regional Director-Ecological Services, Region 1, U.S. Fish and Wildlife Service, Portland, Oregon.

The permittee requests a permit amendment to remove/reduce to possession Astragalus pycnostachyus var. lanosissimus (Ventura marsh milk vetch) throughout the species' range in conjunction with recovery efforts for the purpose of enhancing its survival.

Permit No. TE-040833

Applicant: Nancy Kay Cione, Angelus Oaks, California.

The applicant requests a permit to take (capture, mark, and release) the Stephens' kangaroo rat (Dipodomys stephensi) in conjunction with surveys and population monitoring througout the species' range in California for the purpose of enhancing its survival.

DATES: Written comments on these permit applications must be received on or before July 23, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: June 13, 2001.
Rowan W. Gould,
Regional Director, Region 1, Portland, Oregon.

[FR Doc. 01-15599 Filed 6-20-01; 8:45 am]

BILLING CODE 4310-55-P